DEPARTMENT OF THE INTERIOR

Bureau of Ocean Energy Management

Gulf of Mexico Outer Continental Shelf Oil and Gas Lease Sale 250; MMAA104000

AGENCY: Bureau of Ocean Energy Management, Interior.

ACTION: Final Notice of Sale.

SUMMARY: On Wednesday, March 21, 2018, the Bureau of Ocean Energy Management (BOEM) will open and publicly announce bids received for blocks offered in the Gulf of Mexico (GOM) Outer Continental Shelf (OCS) Region-wide Oil and Gas Lease Sale 250 (GOM Region-wide Sale 250), in accordance with the provisions of the Outer Continental Shelf Lands Act (OCSLA), as amended, and the implementing regulations issued pursuant thereto. The GOM Region-wide Sale 250 Final Notice of Sale (NOS) package contains information essential to potential bidders.

DATES: Public bid reading for GOM Region-wide Sale 250 will begin at 9:00 a.m. on Wednesday, March 21, 2018, at 1201 Elmwood Park Boulevard, New Orleans, Louisiana. All times referred to in this document are Central Standard Time, unless otherwise specified.

Bid Submission Deadline: BOEM must receive all sealed bids between 8:00 a.m. and 4:00 p.m. on weekdays, excluding holidays, prior to the sale, with the exception of Tuesday, March 20, 2018, the day before the lease sale, when the Bid Submission Deadline is 10:00 a.m. For more information on bid submission, see Section VII, “Bidding Instructions,” of this document.

ADDRESSES: Public bid reading for GOM Region-wide Sale 250 will be held at 1201 Elmwood Park Boulevard, New Orleans, Louisiana. The venue will not be open to the general public, media, or industry. Instead, the bid opening will be available for public viewing on BOEM's website at www.boem.gov via live-streaming video beginning at 9:00 a.m. on the date of the sale. BOEM will also post the results on its website after bid opening and reading are completed. Interested parties may download the Final NOS package from BOEM's website at http://www.boem.gov/Sale-250/. Copies of the sale maps may be obtained by contacting the BOEM GOM Region at: Gulf of Mexico Region Public Information Office, Bureau of Ocean Energy Management, 1201 Elmwood Park Boulevard, New Orleans, Louisiana 70123-2394, (504) 736-2519 or (800) 200-GULF.

For more information on bid submission, see Section VII, “Bidding Instructions,” of this document.

FOR FURTHER INFORMATION CONTACT: Ann Glazner, Acting Regional Supervisor, Office of Leasing and Plans, 504-736-2607, ann.glazner@boem.gov or Dr. Andrew Krueger, Acting Chief, Leasing Division, 703-787-1554, andrew.krueger@boem.gov.

SUPPLEMENTARY INFORMATION:

Table of Contents

This Final NOS includes the following sections:

I. Lease Sale Area

II. Statutes and Regulations

III. Lease Terms and Economic Conditions

IV. Lease Stipulations

V. Information to Lessees

VI. Maps

VII. Bidding Instructions

VIII. Bidding Rules and Restrictions

IX. Forms

X. The Lease Sale

XI. Delay of Sale

I. Lease Sale Area

Blocks Offered for Leasing: BOEM will offer for bid in this lease sale all of the available unleased acreage in the GOM, except those blocks listed in “Blocks Not Offered for Leasing” below.

Blocks Not Offered for Leasing: The following whole and partial blocks are not offered for lease in this sale. The BOEM Official Protraction Diagrams (OPDs) and Supplemental Official Block Diagrams are available online at https://www.boem.gov/Maps-and-GIS-Data/.

Whole and partial blocks that lie within the boundaries of the Flower Garden Banks National Marine Sanctuary (in the East and West Flower Garden Banks and the Stetson Bank), identified in the following list:

High Island, East Addition, South Extension (Leasing Map TX7C)

Whole Block: A-398

Partial Blocks: A-366, A-367, A-374, A-375, A-383, A-384, A-385, A-388, A-389, A-397, A-399, A-401

High Island, South Addition (Leasing Map TX7B)

Partial Blocks: A-502, A-513

Garden Banks (OPD NG15-02)

Partial Blocks: 134, 135

Blocks that are adjacent to or beyond the United States Exclusive Economic Zone in the area known as the northern portion of the Eastern Gap:

Lund South (OPD NG 16-07)

Whole Blocks: 128, 129, 169 through 173, 208 through 217, 248 through 261, 293 through 305, and 349

Henderson (OPD NG 16-05)

Whole Blocks: 466, 508 through 510, 551 through 554, 594 through 599, 637 through 643, 679 through 687, 722 through 731, 764 through 775, 807 through 819, 849 through 862, 891 through 905, 933 through 949, and 975 through 992

Partial Blocks: 467, 511, 555, 556, 600, 644, 688, 732, 776, 777, 820, 821, 863, 864, 906, 907, 950, 993, and 994

Florida Plain (OPD NG 16-08)

Whole Blocks: 5 through 24, 46 through 67, 89 through 110, 133 through 154, 177 through 197, 221 through 240, 265 through 283, 309 through 327, and 363 through 370

All whole and portions of blocks deferred by the Gulf of Mexico Energy Security Act of 2006, Public Law 109-432:

Pensacola (OPD NH 16-05)

Whole Blocks: 751 through 754, 793 through 798, 837 through 842, 881 through 886, 925 through 930, and 969 through 975

Destin Dome (OPD NH 16-08)

Whole Blocks: 1 through 7, 45 through 51, 89 through 96, 133 through 140, 177 through 184, 221 through 228, 265 through 273, 309 through 317, 353 through 361, 397 through 405, 441 through 450, 485 through 494, 529 through 538, 573 through 582, 617 through 627, 661 through 671, 705 through 715, 749 through 759, 793 through 804, 837 through 848, 881 through 892, 925 through 936, and 969 through 981

DeSoto Canyon (OPD NH 16-11)

Whole Blocks: 1 through 15, 45 through 59, and 92 through 102

Partial Blocks: 16, 60, 61, 89 through 91, 103 through 105, and 135 through 147

Henderson (OPD NG 16-05)

Partial Blocks: 114, 158, 202, 246, 290, 334, 335, 378, 379, 422, and 423

The following blocks, whose lease status is currently under appeal:

Keathley Canyon (Leasing Map NG15-05) Blocks 290, 291, and 292

Keathley Canyon (Leasing Map NG15-05) Blocks 246 and 247

Keathley Canyon (Leasing Map NG15-05) Blocks 335 and 336

Vermilion Area (Leasing Map LA3) Partial Block 179

II. Statutes and Regulations

Each lease is issued pursuant to OCSLA, 43 U.S.C. 1331-1356, as amended, and is subject to OCSLA implementing regulations promulgated pursuant thereto in 30 CFR part 556, and other applicable statutes and regulations in existence upon the effective date of the lease, as well as those applicable statutes enacted and regulations promulgated thereafter, except to the extent that the after-enacted statutes and regulations explicitly conflict with an express provision of the lease. Each lease is also subject to amendments to statutes and regulations, including but not limited to OCSLA, that do not explicitly conflict with an express provision of the lease. The lessee expressly bears the risk that such new or amended statutes and regulations (i.e., those that do not explicitly conflict with an express provision of the lease) may increase or decrease the lessee's obligations under the lease.

III. Lease Terms and Economic Conditions

Lease Terms

OCS Lease Form

BOEM will use Form BOEM-2005 (February 2017) to convey leases resulting from this sale. This lease form may be viewed on BOEM's website at http://www.boem.gov/BOEM-2005.

The lease form will be amended to conform with the specific terms, conditions, and stipulations applicable to the individual lease. The terms, conditions, and stipulations applicable to this sale are set forth below.

Primary Term

Primary Terms are summarized in the following table:

Water depth (meters) | Primary term
0 to <400 | The primary term is 5 years; the lessee may earn an additional 3 years (i.e., for an 8 year extended primary term) if a well is spudded targeting hydrocarbons below 25,000 feet True Vertical Depth Subsea (TVD SS) during the first 5 years of the lease.
400 to <800 | The primary term is 5 years; the lessee will earn an additional 3 years (i.e., for an 8 year extended primary term) if a well is spudded during the first 5 years of the lease.
800 to <1,600 | The primary term is 7 years; the lessee will earn an additional 3 years (i.e., for a 10 year extended primary term) if a well is spudded during the first 7 years of the lease.
1,600 + | 10 years.

(1) The primary term for a lease in water depths less than 400 meters issued as a result of this sale is 5 years. If the lessee spuds a well targeting hydrocarbons below 25,000 feet TVD SS within the first 5 years of the lease, then the lessee may earn an additional 3 years, resulting in an 8 year primary term. The lessee will earn the 8 year primary term when the well is drilled to a target below 25,000 feet TVD SS, or the lessee may earn the 8 year primary term in cases where the well targets, but does not reach, a depth below 25,000 feet TVD SS due to mechanical or safety reasons, where sufficient evidence is provided that it did not reach that target for reasons beyond the lessee's control.

In order to earn the 8 year extended primary term, the lessee is required to submit to the BOEM GOM Regional Supervisor for Leasing and Plans, as soon as practicable, but in any instance not more than 30 days after completion of the drilling operation, a letter providing the well number, spud date, information demonstrating a target below 25,000 TVD SS and whether that target was reached, and if applicable, any safety, mechanical, or other problems encountered that prevented the well from reaching a depth below 25,000 feet TVD SS. This letter must request confirmation that the lessee earned the 8 year primary term. The extended primary term is not effective unless and until the lessee receives confirmation from BOEM.

The BOEM GOM Regional Supervisor for Leasing and Plans will confirm in writing, within 30 days of receiving the lessee's letter, whether the lessee has earned the extended primary term and update BOEM records accordingly.

A lessee that has earned the 8 year primary term by spudding a well with a hydrocarbon target below 25,000 feet TVD SS during the standard 5 year primary term of the lease will not be granted a suspension for that same period under the regulations at 30 CFR 250.175 because the lease is not at risk of expiring.

(2) The primary term for a lease in water depths ranging from 400 to less than 800 meters issued as a result of this sale is 5 years. If the lessee spuds a well within the 5 year primary term of the lease, the lessee will earn an additional 3 years, resulting in an 8 year primary term.

In order to earn the 8 year primary term, the lessee is required to submit to the BOEM GOM Regional Supervisor for Leasing and Plans, as soon as practicable, but in no case more than 30 days after spudding a well, a letter providing the well number and spud date, and requesting confirmation that the lessee earned the 8 year extended primary term. Within 30 days of receipt of the request, the BOEM GOM Regional Supervisor for Leasing and Plans will provide written confirmation of whether the lessee has earned the extended primary term and update BOEM records accordingly.

(3) The standard primary term for a lease in water depths ranging from 800 to less than 1,600 meters issued as a result of this sale is 7 years. If the lessee spuds a well within the standard 7 year primary term, the lessee will earn an additional 3 years, resulting in a 10 year extended primary term.

In order to earn the 10 year primary term, the lessee is required to submit to the BOEM GOM Regional Supervisor for Leasing and Plans, as soon as practicable, but in no case more than 30 days after spudding a well, a letter providing the well number and spud date, and requesting confirmation that the lessee earned the 10 year primary term. Within 30 days of receipt of the request, the BOEM GOM Regional Supervisor for Leasing and Plans will provide written confirmation of whether the lessee has earned the extended primary term and update BOEM records accordingly.

(4) The primary term for a lease in water depths 1,600 meters or greater issued as a result of this sale will be 10 years.

Economic Conditions

Minimum Bonus Bid Amounts

• $25.00 per acre or fraction thereof for blocks in water depths less than 400 meters; and

• $100.00 per acre or fraction thereof for blocks in water depths 400 meters or deeper.

BOEM will not accept a bonus bid unless it provides for a cash bonus in an amount equal to, or exceeding, the specified minimum bid of $25.00 per acre or fraction thereof for blocks in water depths less than 400 meters, and $100.00 per acre or fraction thereof for blocks in water depths 400 meters or deeper.

Rental Rates

Annual rental rates are summarized in the following table:

Rental Rates per Acre or Fraction Thereof
Water depth (meters) | Years 1-5 | Years 6, 7, & 8 +
0 to <200 | $7.00 | $14.00, $21.00, & $28.00.
200 to <400 | 11.00 | 22.00, 33.00, & 44.00.
400 + | 11.00 | 16.00.

Escalating Rental Rates for Leases With an 8-Year Primary Term in Water Depths Less Than 400 Meters

Any lessee with a lease in less than 400 meters water depth who earns an 8 year primary term will pay an escalating rental rate as shown above. The rental rates after the fifth year for blocks in less than 400 meters water depth will become fixed and no longer escalate, if another well is spudded targeting hydrocarbons below 25,000 feet TVD SS after the fifth year of the lease, and BOEM concurs that such a well has been spudded. In this case, the rental rate will become fixed at the rental rate in effect during the lease year in which the additional well was spudded.

Royalty Rate

• 12.5 Percent for leases situated in water depths less than 200 meters; and

• 18.75 percent for leases situated in water depths of 200 meters and deeper.

Minimum Royalty Rate

• $7.00 Per acre or fraction thereof per year for blocks in water depths less than 200 meters; and

• $11.00 per acre or fraction thereof per year for blocks in water depths 200 meters or deeper.

Royalty Suspension Provisions

The issuance of leases with Royalty Suspension Volumes (RSVs) or other forms of royalty relief is authorized under existing BOEM regulations at 30 CFR part 560. The specific details relating to eligibility and implementation of the various royalty relief programs, including those involving the use of RSVs, are codified in Bureau of Safety and Environmental Enforcement (BSEE) regulations at 30 CFR part 203.

In this sale, the only royalty relief program being offered that involves the provision of RSVs relates to the drilling of ultra-deep wells in water depths of less than 400 meters, as described in the following section.

Royalty Suspension Volumes on Gas Production From Ultra-Deep Wells

Leases issued as a result of this sale may be eligible for RSV incentives on gas produced from ultra-deep wells pursuant to 30 CFR part 203. These regulations implement the requirements of the Energy Policy Act of 2005 (42 U.S.C. 13201 et seq.). Under this program, wells on leases in less than 400 meters water depth and completed to a drilling depth of 20,000 feet TVD SS or deeper receive a RSV of 35 billion cubic feet on the production of natural gas. This RSV incentive is subject to applicable price thresholds set forth in the regulation at 30 CFR part 203.

IV. Lease Stipulations

Consistent with the Record of Decision for the Final Programmatic Environmental Impact Statement for the 2017-2022 Five Year OCS Oil and Gas Leasing Program, Stipulation No. 5 (Topographic Features) and Stipulation No. 8 (Live Bottom) will apply to every lease sale in the GOM Program Area. One or more of the remaining eight stipulations may be applied to leases issued as a result of this sale. The detailed text of the following stipulations is contained in the “Lease Stipulations” section of the Final NOS package.

(1) Military Areas

(2) Evacuation

(3) Coordination

(4) Protected Species

(5) Topographic Features

(6) United Nations Convention on the Law of the Sea Royalty Payment

(7) Agreement between the United States of America and the United Mexican States Concerning Transboundary Hydrocarbon Reservoirs in the Gulf of Mexico

(8) Live Bottom

(9) Blocks South of Baldwin County, Alabama

(10) Below Seabed Restrictions due to Rights-of-Use and Easement for Floating Production Facilities

V. Information to Lessees

Information to Lessees (ITLs) provides detailed information on certain issues pertaining to specific oil and gas lease sales. The detailed text of the ITLs for this sale is contained in the “Information to Lessees” section of the Final NOS package.

(1) Navigation Safety

(2) Ordnance Disposal Areas

(3) Existing and Proposed Artificial Reefs/Rigs-to-Reefs

(4) Lightering Zones

(5) Indicated Hydrocarbons List

(6) Military Areas

(7) Bureau of Safety and Environmental Enforcement (BSEE) Inspection and Enforcement of Certain U.S. Coast Guard (USCG) Regulations

(8) Significant Outer Continental Shelf Sediment Resource Areas

(9) Notice of Arrival on the Outer Continental Shelf

(10) Bidder/Lessee Notice of Obligations Related to Criminal/Civil Charges and Offenses, Suspension, or Debarment; Disqualification Due to a Conviction under the Clean Air Act or the Clean Water Act

(11) Protected Species

(12) Proposed Expansion of the Flower Garden Banks National Marine Sanctuary

(13) Communication Towers

(14) Deepwater Port Applications for Offshore Oil and Liquefied Natural Gas Facilities

(15) Ocean Dredged Material Disposal Sites

(16) Rights-of-Use and Easement

(17) Industrial Waste Disposal Areas

(18) Gulf Islands National Seashore

(19) Air Quality Permit/Plan Approvals

VI. Maps

The maps pertaining to this lease sale may be viewed on BOEM's website at http://www.boem.gov/Sale-250/. The following maps also are included in the Final NOS package:

Lease Terms and Economic Conditions Map

The lease terms and economic conditions associated with leases of certain blocks are shown on the map entitled, “Final, Gulf of Mexico Region-wide Oil and Gas Lease Sale 250, March 2018, Lease Terms and Economic Conditions.”

Stipulations and Deferred Blocks Map

The lease stipulations and the blocks to which they apply are shown on the map entitled, “Final, Gulf of Mexico Region-wide Oil and Gas Lease Sale 250, March 2018, Stipulations and Deferred Blocks Map.”

VII. Bidding Instructions

Bids may be submitted in person or by mail at the address below in the “Mailed Bids” section. Bidders submitting their bid(s) in person are advised to email boemgomrleasesales@boem.gov to provide the names of the company representative(s) who will submit the bid(s). Instructions on how to submit a bid, secure payment of the advance bonus bid deposit (if applicable), and what information must be included with the bid are as follows:

Bid Form

For each block bid upon, a separate sealed bid must be submitted in a sealed envelope (as described below) and include the following:

• Total amount of the bid in whole dollars only;

• Sale number;

• Sale date;

• Each bidder's exact name;

• Each bidder's proportionate interest, stated as a percentage, using a maximum of five decimal places (e.g., 33.33333%);

• Typed name and title, and signature of each bidder's authorized officer;

• Each bidder's qualification number;

• Map name and number or Official Protraction Diagram (OPD) name and number;

• Block number; and

• Statement acknowledging that the bidder(s) understand that this bid legally binds the bidder(s) to comply with all applicable regulations, including those requiring it to post a deposit in the amount of one-fifth of the bonus bid amount for any tract bid upon and make payment of the balance of the bonus bid upon BOEM's acceptance of high bids.

The information required on the bid(s) is specified in the document “Bid Form” contained in the Final NOS package. A blank bid form is provided in the Final NOS package for convenience and may be copied and completed with the necessary information described above.

Bid Envelope

Each bid must be submitted in a separate sealed envelope labeled as follows:

• “Sealed Bid for GOM Region-wide Sale 250, not to be opened until 9 a.m. Wednesday, March 21, 2018;”

• Map name and number or OPD name and number;

• Block number for block bid upon; and

• The exact name and qualification number of the submitting bidder only.

The Final NOS package includes a sample bid envelope for reference.

Mailed Bids

If bids are mailed, please address the envelope containing the sealed bid envelope(s) as follows: Attention: Leasing and Financial Responsibility Section, BOEM Gulf of Mexico Region, 1201 Elmwood Park Boulevard WS-266A, New Orleans, Louisiana 70123-2394. Contains Sealed Bids for GOM Region-wide Sale 250. Please Deliver to Mr. Greg Purvis, 2nd Floor, Immediately.

Please Note: Bidders mailing bid(s) are advised to inform BOEM by email to boemgomrleasesales@boem.gov immediately after putting their bid(s) in the mail. This is to ensure receipt of bids prior to the Bid Submission Deadline. If BOEM receives bids later than the Bid Submission Deadline, the BOEM GOM Regional Director (RD) will return those bids unopened to bidders. Please see “Section XI. Delay of Sale” regarding BOEM's discretion to extend the Bid Submission Deadline in the case of an unexpected event (e.g., flooding or travel restrictions) and how bidders can obtain more information on such extensions.

Advance Bonus Bid Deposit Guarantee

Bidders that are not currently an OCS oil and gas lease record title holder or designated operator, or those that ever have defaulted on a one-fifth bonus bid deposit, by Electronic Funds Transfer (EFT) or otherwise, must guarantee (secure) the payment of the one-fifth bonus bid deposit prior to bid submission using one of the following four methods:

• Provide a third-party guarantee;

• Amend an area-wide development bond via bond rider;

• Provide a letter of credit; or

• Provide a lump sum payment in advance via EFT.

For more information on EFT procedures, see Section X of this document entitled, “The Lease Sale.”

Affirmative Action

Prior to bidding, each bidder should file the Equal Opportunity Affirmative Action Representation Form BOEM-2032 (October 2011, http://www.boem.gov/BOEM-2032/) and Equal Opportunity Compliance Report Certification Form BOEM-2033 (October 2011, http://www.boem.gov/BOEM-2033/) with the BOEM GOM Adjudication Section. This certification is required by 41 CFR part 60 and Executive Order No. 11246, issued September 24, 1965, as amended by Executive Order No. 11375, issued October 13, 1967, and by Executive Order No. 13672, issued July 21, 2014. Both forms must be on file for the bidder(s) in the GOM Adjudication Section prior to the execution of any lease contract.

Geophysical Data and Information Statement (GDIS)

The GDIS is composed of three parts:

(1) The “Statement” page includes the company representatives' information and lists of blocks bid on that used proprietary data and those blocks bid on that did not use proprietary data;

(2) The “Table” listing the required data about each proprietary survey used (see below); and

(3) The “Maps” being the live trace maps for each proprietary survey that are identified in the GDIS statement and table.

Every bidder submitting a bid on a block in GOM Region-wide Sale 250, or participating as a joint bidder in such a bid, must submit at the time of bid submission all three parts of the GDIS. A bidder must submit the GDIS even if a joint bidder or bidders on a specific block also have submitted a GDIS. Any speculative data that has been reprocessed externally or “in-house” is considered proprietary due to the proprietary processing and is no longer considered to be speculative.

The GDIS must be submitted in a separate and sealed envelope, and must identify all proprietary data; reprocessed speculative data, and/or any Controlled Source Electromagnetic surveys, Amplitude Versus Offset (AVO), Gravity, or Magnetic data; or other information used as part of the decision to bid or participate in a bid on the block. The bidder and joint bidder must also include a live trace map (e.g., .pdf and ArcGIS shape file) for each proprietary survey that they identify in the GDIS illustrating the actual areal extent of the proprietary geophysical data in the survey (see the “Example of Preferred Format” in the Final NOS package for additional information). The shape file should not include cultural information; only the live trace map of the survey itself.

The GDIS statement must include the name, phone number, and full address of a contact person and an alternate who are both knowledgeable about the geophysical information and data listed and who are available for 30 days after the sale date. The GDIS statement also must include a list of all blocks bid upon that did not use proprietary or reprocessed pre- or post-stack geophysical data and information as part of the decision to bid or to participate as a joint bidder in the bid. The GDIS statement must be submitted even if no proprietary geophysical data and information were used in bid preparation for the block.

The GDIS table should have columns that clearly state:

• The sale number;

• The bidder company's name;

• The block area and block number bid on;

• The owner of the original data set (i.e., who initially acquired the data);

• The industry's original name of the survey (e.g., E Octopus);

• The BOEM permit number for the survey;

• Whether the data set is a fast track version;

• Whether the data is speculative or proprietary;

• The data type (e.g., 2-D, 3-D, or 4-D; pre-stack or post-stack; and time or depth);

• The Migration algorithm (e.g., Kirchhoff Migration, Wave Equation Migration, Reverse Migration, Reverse Time Migration);

• The Live Proprietary Survey Coverage (e.g., line miles for 2-D surveys or number of blocks for 3-D surveys);

• The computer storage size, to the nearest gigabyte, of each seismic data and velocity volume used to evaluate the lease block;

• Who reprocessed the data and when the date of final reprocessing was completed (month and year);

• If data was previously sent to BOEM, list the sale and date of sale for which it was used; and

• Indicate if proprietary or Speculative AVO/AVA (PROP/SPEC) was used.

The computer storage size information will be used in estimating the reproduction costs for each data set, if applicable. The availability of reimbursement of production costs will be determined consistent with 30 CFR 551.13.

An example of the preferred format of the table is contained in the Final NOS package, and a blank digital version of the preferred table can be accessed on the GOM Region-wide Sale 250 web page at http://www.boem.gov/Sale-250.

The GDIS maps are live trace maps (e.g., .pdf and ArcGIS shape files) that should be submitted for each proprietary survey that is identified in the GDIS table. They should illustrate the actual areal extent of the proprietary geophysical data in the survey (see the “Example of Preferred Format” in the Final NOS package for additional information). As previously stated, the shape file should not include cultural information; only the live trace map of the survey itself. Pursuant to 30 CFR 551.12 and 30 CFR 556.501, as a condition of the sale, the BOEM Gulf of Mexico RD requests that all bidders and joint bidders submit the proprietary data identified on their GDIS within 30 days after the lease sale (unless they are notified after the lease sale that BOEM has withdrawn the request). This request only pertains to proprietary data that is not commercially available. Commercially available data is not required to be submitted to BOEM, and reimbursement will not be provided if such data is submitted by a bidder. The BOEM Gulf of Mexico RD will notify bidders and joint bidders of any withdrawal of the request, for all or some of the proprietary data identified on the GDIS, within 15 days of the lease sale. Pursuant to 30 CFR part 551 and 30 CFR 556.501, as a condition of this sale, all bidders that are required to submit data must ensure that the data is received by BOEM no later than the 30th day following the lease sale, or the next business day if the submission deadline falls on a weekend or Federal holiday.

The data must be submitted to BOEM at the following address: Bureau of Ocean Energy Management, Resource Studies, GM 881A, 1201 Elmwood Park Blvd., New Orleans, LA 70123-2304.

BOEM recommends that bidders mark the submission's external envelope as “Deliver Immediately to DASPU.” BOEM also recommends that the data be submitted in an internal envelope, or otherwise marked, with the following designation: “Proprietary Geophysical Data Submitted Pursuant to GOM Region-wide Sale 250 and used during <Bidder Name's> evaluation of Block <Block Number>.”

In the event a person supplies any type of data to BOEM, that person must meet the following requirements to qualify for reimbursement:

(1) The person must be registered with the System for Award Management (SAM), formerly known as the Central Contractor Registration (CCR). CCR usernames will not work in SAM. A new SAM User Account is needed to register or update an entity's records. The website for registering is https://www.sam.gov.

(2) The persons must be enrolled in the Department of Treasury's Invoice Processing Platform (IPP) for electronic invoicing. The person must enroll in the IPP at https://www.ipp.gov/. Access then will be granted to use the IPP for submitting requests for payment. When a request for payment is submitted, it must include the assigned Purchase Order Number on the request.

(3) The persons must have a current On-line Representations and Certifications Application at https://www.sam.gov.

Please Note: The GDIS Information Table must be submitted digitally, preferably as an Excel spreadsheet, on a CD, DVD, or any USB external drive (formatted for Windows), along with the seismic data map(s). If bidders have any questions, please contact Ms. Dee Smith at (504) 736-2706, or Mr. John Johnson at (504) 736-2455.

Bidders should refer to Section X of this document, “The Lease Sale: Acceptance, Rejection, or Return of Bids,” regarding a bidder's failure to comply with the requirements of the Final NOS, including any failure to submit information as required in the Final NOS or Final NOS package.

Telephone Numbers/Addresses of Bidders

BOEM requests that bidders provide this information in the suggested format prior to or at the time of bid submission. The suggested format is included in the Final NOS package. The form must not be enclosed inside the sealed bid envelope.

Additional Documentation

BOEM may require bidders to submit other documents in accordance with 30 CFR 556.107, 30 CFR 556.401, 30 CFR 556.501, and 30 CFR 556.513.

VIII. Bidding Rules and Restrictions

Restricted Joint Bidders

On November 14, 2017, BOEM published the most recent List of Restricted Joint Bidders in the Federal Register at 82 FR 52743. Potential bidders are advised to refer to the Federal Register, prior to bidding, for the most current List of Restricted Joint Bidders in place at the time of the lease sale. Please refer to the joint bidding provisions at 30 CFR 556.511-515.

Authorized Signatures

All signatories executing documents on behalf of bidder(s) must execute the same in conformance with the BOEM qualification records. Bidders are advised that BOEM considers the signed bid to be a legally binding obligation on the part of the bidder(s) to comply with all applicable regulations, including that requiring payment of one-fifth of the bonus bid on all high bids. A statement to this effect is included on each bid form (see the document “Bid Form” contained in the Final NOS package).

Unlawful Combination or Intimidation

BOEM warns bidders against violation of 18 U.S.C. 1860, prohibiting unlawful combination or intimidation of bidders.

Bid Withdrawal

Bids may be withdrawn only by written request delivered to BOEM prior to the Bid Submission Deadline. The withdrawal request must be on company letterhead and must contain the bidder's name, its BOEM qualification number, the map name/number, and the block number(s) of the bid(s) to be withdrawn. The withdrawal request must be executed in conformance with the BOEM qualification records. Signatories must be authorized to bind their respective legal business entity (e.g., a corporation, partnership, or LLC) and documentation must be on file with BOEM setting forth this authority to act on the business entity's behalf for purposes of bidding and lease execution under OCSLA (e.g., business charter or articles, incumbency certificate, or power of attorney). The name and title of the authorized signatory must be typed under the signature block on the withdrawal request. The BOEM Gulf of Mexico RD, or the RD's designee, will indicate their approval by signing and dating the withdrawal request.

Bid Rounding

Minimum bonus bid calculations, including rounding, for all blocks will be shown in the document “List of Blocks Available for Leasing” included in the Final NOS package. The bonus bid amount must be stated in whole dollars. If the acreage of a block contains a decimal figure, then prior to calculating the minimum bonus bid, BOEM will round up to the next whole acre. The appropriate minimum rate per acre will then be applied to the whole (rounded up) acreage. If this calculation results in a fractional dollar amount, the minimum bonus bid will be rounded up to the next whole dollar amount. The bonus bid amount must be greater than or equal to the minimum bonus bid in whole dollars.

IX. Forms

The Final NOS package includes instructions, samples, and/or the preferred format for the following items. BOEM strongly encourages bidders to use the recommended formats. If bidders use another format, they are responsible for including all the information specified for each item in the Final NOS package.

(1) Bid Form

(2) Sample Completed Bid

(3) Sample Bid Envelope

(4) Sample Bid Mailing Envelope

(5) Telephone Numbers/Addresses of Bidders Form

(6) GDIS Form

(7) GDIS Envelope Form

X. The Lease Sale

Bid Opening and Reading

Sealed bids received in response to the Final NOS will be opened at the place, date, and hour specified under the DATES section of the Final NOS. The venue will not be open to the public. Instead, the bid opening will be available for the public to view on BOEM's website at www.boem.gov via live-streaming. The opening of the bids is for the sole purpose of publicly announcing and recording the bids received; no bids will be accepted or rejected at that time.

Bonus Bid Deposit for Apparent High Bids

Each bidder submitting an apparent high bid must submit a bonus bid deposit to the Office of Natural Resources Revenue (ONRR) equal to one-fifth of the bonus bid amount for each such bid. A copy of the notification of the high bidder's one-fifth bonus bid amount may be obtained on the BOEM website at http://www.boem.gov/Sale-250 under the heading “Notification of EFT ⅕ Bonus Liability” after 1:00 p.m. on the day of the sale. All payments must be deposited electronically into an interest-bearing account in the U.S. Treasury by 11:00 a.m. Eastern Time the day following the bid reading (no exceptions). Account information is provided in the “Instructions for Making Electronic Funds Transfer Bonus Payments” found on the BOEM website identified above.

BOEM requires bidders to use EFT procedures for payment of one-fifth bonus bid deposits for GOM Region-wide Sale 250 following the detailed instructions contained on the ONRR Payment Information web page at http://www.onrr.gov/FM/PayInfo.htm. Acceptance of a deposit does not constitute and will not be construed as acceptance of any bid on behalf of the United States.

Withdrawal of Blocks

The United States reserves the right to withdraw any block from this lease sale prior to issuance of a written acceptance of a bid for the block.

Acceptance, Rejection, or Return of Bids

The United States reserves the right to reject any and all bids. No bid will be accepted, and no lease for any block will be awarded to any bidder, unless:

(1) The bidder has complied with all requirements of the Final NOS, including those set forth in the documents contained in the Final NOS package, and applicable regulations;

(2) The bid is the highest valid bid; and

(3) The amount of the bid has been determined to be adequate by the authorized officer.

Any bid submitted that does not conform to the requirements of the Final NOS and Final NOS package, OCSLA, or other applicable statute or regulation will be rejected and returned to the bidder. The U.S. Department of Justice and the Federal Trade Commission will review the results of the lease sale for antitrust issues prior to the acceptance of bids and issuance of leases.

Bid Adequacy Review Procedures for GOM Region-Wide Sale 250

To ensure that the U.S. Government receives a fair return for the conveyance of leases from this sale, high bids will be evaluated in accordance with BOEM's bid adequacy procedures, which are available at http://www.boem.gov/Oil-and-Gas-Energy-Program/Leasing/Regional-Leasing/Gulf-of-Mexico-Region/Bid-Adequacy-Procedures.aspx .

Lease Award

BOEM requires each bidder awarded a lease to:

(1) Execute all copies of the lease (Form BOEM-2005 (February 2017), as amended);

(2) Pay by EFT the balance of the bonus bid amount and the first year's rental for each lease issued in accordance with the requirements of 30 CFR 218.155 and 556.520(a); and

(3) Satisfy the bonding requirements of 30 CFR part 556, subpart I, as amended. ONRR requests that only one transaction be used for payment of the balance of the bonus bid amount and the first year's rental. When ONRR receives such payment, the bidder awarded the lease may not request a refund of the balance bonus bid amount or first year's rental payment.

XI. Delay of Sale

The BOEM Gulf of Mexico RD has the discretion to change any date, time, and/or location specified in the Final NOS package in the case of an event that the BOEM Gulf of Mexico RD deems may interfere with the carrying out of a fair and orderly lease sale process. Such events could include, but are not limited to, natural disasters (e.g., earthquakes, hurricanes, and floods), wars, riots, acts of terrorism, fires, strikes, civil disorder, or other events of a similar nature. In case of such events, bidders should call (504) 736-0557, or access the BOEM website at http://www.boem.gov, for information regarding any changes.

Dated: February 13, 2018.
Walter D. Cruickshank,
Acting Director, Bureau of Ocean Energy Management.

[FR Doc. 2018-03278 Filed 2-15-18; 8:45 am]

BILLING CODE 4310-MR-P